DEPARTMENT OF COMMERCE

National Oceanic and Atmospheric Administration

RIN: 0648-XC93

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene its Law Enforcement Advisory Panel (LEAP).

DATES: The meeting will be held on Tuesday, October 16, 2007, from 1 p.m. to 5 p.m.

ADDRESSES: The meeting will be held at the Grand Hotel Marriott, 1 Grand Blvd., Point Clear, AL 36564; telephone: (251) 928-9201.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Council will convene the LEAP to review a generic amendment that would potentially allow offshore aquaculture in the Gulf of Mexico. The LEAP will also review Amendment 30A to the Reef Fish Fishery Management Plan (FMP) that would establish restrictions on the harvest of gray triggerfish and a rebuilding plan for this overfished stock, as well as additional restrictions on greater amberjack to maintain its rebuilding target. Furthermore, the LEAP will review an Options Paper that will likely result in the development of Amendment 30B to the Reef Fish FMP to further restrict the harvest of gag and possibly relax some of the current restrictions on the harvest of red grouper. Finally, the LEAP will consider an options paper that could potentially result in the implementation of a limited access privilege program (LAPP) for groupers and possibly other reef fish.

The LEAP consists of principal law enforcement officers in each of the Gulf States, as well as the NMFS, U.S. Fish and Wildlife Service (FWS), the U.S. Coast Guard, and NOAA General Counsel. A copy of the agenda and related materials can be obtained by calling the Council office at (813) 348-1630.

Although other non-emergency issues not on the agendas may come before the LEAP for discussion, in accordance with the Magnuson-Stevens Fishery Conservation and Management Act (Magnuson-Stevens Act), those issues may not be the subject of formal action during this meeting. Actions of the LEAP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) 5 working days prior to the meeting.

Dated: September 26, 2007.
Tracey L. Thompson,
Acting Director, Office of Sustainable Fisheries, National Marine Fisheries Service.

[FR Doc. E7-19372 Filed 10-1-07; 8:45 am]

BILLING CODE 3510-22-S